DEPARTMENT OF HEALTH AND HUMAN SERVICES

Centers for Disease Control and Prevention

The National Center for HIV, STD and TB Prevention of the Centers for Disease Control and Prevention (CDC) Announces the Following External Consultant Meeting

Name: External Consultant Meeting on Nonoccupational Antiretroviral Postexposure Prophylaxis (nPEP).

Times and Dates: 8 a.m.-5 p.m., May 10, 2001. 8:30 a.m.-3:15 p.m., May 11, 2001.

Place: Atlanta Hilton and Towers-Downtown, 255 Courtland Street, NE, Atlanta, GA 30303.

Status: Open to the public, limited only by the space available.

Purpose: Attendees at this meeting will discuss and make recommendations as individuals to the Division of HIV/AIDS Prevention-Surveillance and Epidemiology on matters related to the potential use of antiretroviral medications and other interventions following sexual, injection drug use, and other non-occupational exposures to human immunodeficiency virus with a resulting risk of infection.

Matters To Be Discussed: Agenda items will include: a review of data on the potential efficacy of antiretroviral prophylaxis in occupational, perinatal, and non-human primate retroviral exposures; information on the extent of, and situations leading to requests for, and provision of, nPEP in the United States; whether and how additional data to determine nPEP efficacy in humans can be collected; and whether and how the CDC and the Public Health Service should amend its 1998 statement on nPEP considerations.

Contact Person for More Information: Dr. Dawn K. Smith, Medical Epidemiologist, NCHSTP, CDC, 1600 Clifton Road, NE, M/S E-45, Atlanta, Georgia 30333, telephone 404-639-6165. The Director, Management Analysis and Services Office, has been delegated the authority to sign Federal Register notices pertaining to announcements of meetings and other committee management activities, for both the Centers for Disease Control and Prevention and the Agency for Toxic Substances and Disease Registry.

Dated: March 1, 2001.
Carolyn J. Russell,
Director, Management Analysis and Services Office, Centers for Disease Control and Prevention.

[FR Doc. 01-5504 Filed 3-6-01; 8:45 am]

BILLING CODE 4163-18-P